DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting administrative supplements (in the scope of the parent award) for the 60 eligible grant recipients funded in FY 2023 under the Substance Use Prevention, Treatment, and Recovery Services Block Grant (SUBG). Recipients may receive an amount of between $25,000 and $2,089,193 for a total of $15,400,000. If all eligible SUBG recipients do not apply, remaining funds will be redistributed to applicants. These recipients have a project end date of September 30, 2024. The supplemental funding will be used for providing and/or obtaining training and technical assistance, or workforce development meetings and activities.

FOR FURTHER INFORMATION CONTACT: Spencer Clark, Chief, CSAT State Systems Partnership Branch, Substance Abuse and Mental Health Services Administration, 5600 Fishers Lane, Rockville, MD 20857, telephone 240-276-1027; email: Spencer.Clark@samhsa.hhs.gov.

SUPPLEMENTARY INFORMATION:

Funding Opportunity Title: FY 2023 Substance Use Prevention, Treatment, and Recovery Services Block Grant.

Assistance Listing Number: 93.959.

Authority: Section 1935 of the Public Health Service Act.

Justification: This supplemental funding is limited in eligibility to only the recipients of the Substance Use Prevention, Treatment, and Recovery Services Block Grant because it will be used to expand and enhance the training and technical assistance efforts of the recipients.

This is not a formal request for application. Assistance will only be provided to the 60 SUBG recipients funded in FY 2023 based on the receipt of a written statement from the Single State Agency (SSA) of the recipient's interest in receiving these funds to be used for the stated purposes.

Dated: June 15, 2023.
Ann Ferrero,
Public Health Analyst.

[FR Doc. 2023-13145 Filed 6-20-23; 8:45 am]

BILLING CODE 4162-20-P